DEPARTMENT OF TRANSPORTATION

Federal Highway Administration

Environmental Impact Statement; Arlington County, VA, and Washington, DC

AGENCY: Federal Highway Administration (FHWA), DOT.

ACTION: Notice of intent.

SUMMARY: The FHWA is issuing this notice to advise the public that an environmental impact statement will be prepared, in cooperation with the Virginia Department of Transportation and the District of Columbia Department of Transportation, for potential transportation improvements in the 14th Street Bridge Corridor, from South Capitol Street in Washington, DC to Virginia Route 27 in Arlington, VA, including the 14th Street Bridge over the Potomac River.

FOR FURTHER INFORMATION CONTACT: Jack Van Dop, Senior Technical Specialist, Federal Highway Administration, 21400 Ridgetop Circle, Sterling, VA 20166, Telephone 703-404-6282; or Lisa Thaxton, Environmental Protection Specialist, Federal Highway Administration, 21400 Ridgetop Circle, Sterling, VA 20166, Telephone 571-434-1552.

SUPPLEMENTARY INFORMATION:

Electronic Access

An electronic copy of this document may be downloaded by using a computer, modem and suitable communications software from Government Printing Office's Electronic Bulletin Board Service at (202) 512-1661. Internet users may reach the Office of the Federal Register's home page at: http://www.nara.gov/fedreg and the Government Printing Office's Web site at: http://www.access.gpo.gov/nara.

Background

With this notice of intent, the FHWA is initiating the National Environmental Policy Act (NEPA) process including the preparation of an environmental impact statement (EIS), for the 14th Street Bridge Corridor to study potential alternatives to reduce congestion, enhance safety, and improve traffic operations in the 14th Street Bridge Corridor.

A full range of transportation and demand management alternatives will be considered along with the No Build Alternative, including, but not limited to: Transportation systems management (TSM), transportation demand management (TDM), various modes of transit, build alternatives, facility expansion and/or renovation, evacuation routing, congestion mitigation (including but not limited to incident management, work zone operations, access management and partnering), and bicycle and pedestrian modes. These alternatives will be developed, screened, and subjected to detailed analysis in the draft environmental impact statement based on their ability to address the Purpose and Need, while attempting to avoid known and sensitive resources.

Letters describing the proposed NEPA study and soliciting input will be sent to the appropriate Federal, State and local agencies who have expressed or are known to have an interest or legal role in this proposal. A formal scoping meeting will be held as part of the NEPA process to facilitate local, state, and Federal agency involvement. Private organizations, citizens, and interest groups will also have an opportunity to provide input into the development of the EIS and identify issues that should be addressed. A comprehensive public participation program will be developed to involve the public in the project development process. Notices of public meetings or public hearings will be given through various forums providing the time and place of the meeting along with other relevant information. The draft EIS will be available for public and agency review and comment prior to the public meetings/hearings.

To ensure that the full range of issues related to this proposed action are identified and taken into account, comments and suggestions are invited from all interested parties. Comments and questions concerning this notice of proposed action and when the draft EIS is made available should be directed to the FHWA at the address provided under the caption FOR FURTHER INFORMATION CONTACT. Additional information can be obtained by visiting the Web site http://www.14thStreetBridgeCorridorEIS.com.

(Catalog of Federal Domestic Assistance Program Number 20.205, Highway Planning and Construction. The regulations implementing Executive Order 12372 regarding intergovernmental consultation on Federal programs and activities apply to this proposed action.)

Authority: 23 U.S.C. 315; 49 CFR 1.48.

Issued on: July 12, 2006.
Donald R. Tuggle,
Director, Program Administration, Federal Highway Administration, Sterling, Virginia.

[FR Doc. E6-11338 Filed 7-17-06; 8:45 am]

BILLING CODE 4910-22-P